DEPARTMENT OF DEFENSE

Department of the Navy

Notice of Availability of Government-Owned Invention; Available for Licensing

AGENCY: Department of the Navy, DOD.

ACTION: Notice.

SUMMARY: The Department of the Navy hereby gives notice of the general availability of licenses under the following pending patent.

U.S. Patent Application Serial Number 10/959,764 entitled “Reduced-Oxygen Breathing Device” filed 7 October 2004. The Reduced Oxygen Breathing Device (ROBD2) is an apparatus that dilutes the oxygen present in air to concentrations below 21% by mixing the air with nitrogen. The purpose of this dilution is to simulate the reduced oxygen concentration available as one ascends in altitude.

The ROBD2 is unique and different from previous devices that reduce the concentration of oxygen in room air via dilution with nitrogen gas in that it uses sophisticated gas regulating devices known as mass flow controllers. The ROBD also employs a gas extraction device as an independent component of the system that can separate nitrogen gas from air for use in the device.

DATES: Applications for a license may be submitted at any time from the date of this notice.

ADDRESSES: Submit license applications to the Office of Technology Transfer, Naval Medical Research Center, 503 Robert Grant Ave, Silver Spring, MD 20910-7500.

FOR FURTHER INFORMATION CONTACT: Dr. Charles Schlagel, Director, Office of Technology Transfer, Naval Medical Research Center, 503 Robert Grant Ave, Silver Spring, MD 20910-7500, telephone (301) 319-7428, fax (301) 319-7432, or e-Mail: schlagelc@nmrc.navy.mil.

SUPPLEMENTARY INFORMATION: Any license granted shall comply with 35 U.S.C. 209 and 37 CFR part 404. Applications will be evaluated utilizing the following criteria: (1) Ability to manufacture and market the technology; (2) manufacturing and marketing ability; (3) time required to bring technology to market and production rate; (4) royalties; (5) technical capabilities; and (6) small business status.

Dated: October 14, 2004.
J.H. Wagshul,
Commander, Judge Advocate General's Corps, U.S. Navy, Federal Register Liaison Officer.

[FR Doc. 04-23431 Filed 10-19-04; 8:45 am]

BILLING CODE 3810-FF-P